FEDERAL COMMUNICATIONS COMMISSION

Notice of Public Information Collection(s) Being Reviewed by the Federal Communications Commission for Extension Under Delegated Authority, Comments Requested

March 30, 2009.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments June 2, 2009. If you anticipate that you will be submitting comments, but find it difficult to do so within the period of time allowed by this notice, you should advise the contact listed below as soon as possible.

ADDRESSES: Direct all PRA comments to Nicholas A. Fraser, Office of Management and Budget (OMB), (202) 395-5887, or via fax at 202-395-5167, or via the Internet at Nicholas_A._Fraser@omb.eop.gov and to Judith-B.Herman@fcc.gov, Federal Communications Commission (FCC). To submit your comments by e-mail send them to: PRA@fcc.gov.

To view a copy of this information collection request (ICR) submitted to OMB: (1) Go to the Web page http://www.reginfo.gov/public/do/PRAMain, (2) look for the section of the Web page called “Currently Under Review”, (3) click the downward-pointing arrow in the “Select Agency” box below the “Currently Under Review” heading, (4) select “Federal Communications Commission” from the list of agencies presented in the “Select Agency” box, (5) click the “Submit” button to the right of the “Select Agency” box and (6) when the list of FCC ICRs currently under review appears, look for the title of this ICR (or its OMB Control Number, if there is one) and then click on the ICR Reference Number to view detailed information about this ICR.

FOR FURTHER INFORMATION CONTACT: For additional information, send an e-mail to Judith B. Herman at 202-418-0214.

SUPPLEMENTARY INFORMATION:

OMB Control Number: 3060-0690.

Title: Section 101.17, Performance Requirements for the 38.6-40.0 GHz Frequency Band.

Form No.: N/A.

Type of Review: Extension of a currently approved collection.

Respondents: Business or other for-profit; not-for-profit institutions; Federal Government; and State, local or tribal government.

Number of Respondents: 67 respondents; 975 responses.

Estimated Time per Response: 2 hours.

Frequency of Response: Reporting requirement at the end of the 10-year license term.

Obligation to Respond: Required to obtain or retain benefits. Statutory authority for these information collections are contained in 47 U.S.C. 4(i), 303(c), 303(g), 303(r), and 309(j) of the Communications Act of 1934, as amended.

Total Annual Burden: 1,950 hours.

Total Annual Cost: $260,000.

Privacy Act Impact Assessment: N/A.

Nature and Extent of Confidentiality: There may be a need for confidentiality. Applicants may request confidentiality and request confidential treatment in connection with their substantial service showings, pursuant to 47 CFR 0.459 of the Commission's rules.

Needs and Uses: The Commission will submit this information collection to the Office of Management and Budget (OMB) after this 60 day comment period in order to obtain the full three year clearance from them. The Commission is requesting an extension (no change in the reporting requirement) of this information collection. The Commission is reporting a change in the estimated number of respondents/responses, burden hours and annual costs. The Commission is adjusting the total annual burden estimate by +1,590 hours. This adjustment reflects the revised respondent and responses estimates based on updated licensing data and the increase number of licenses that will be due for renewal in the next three years. The Commission is also adjusting the estimated annual cost burden by an increase of $208,000 which is due to an increase in the number of responses; and is also due to the estimated number of respondents (licensees) using outside consultants to discuss and prepare the information.

Section 101.17 requires that all 38.6-40.0 GHz band licensees demonstrate substantial service at the time of license renewal (at the end of the ten year license term). A licensee's substantial service showing should include, but not limited to, the following information for each channel for which the hold a license, in each Economic Area (EA) or portion of the EA covered by their license, in order to qualify for renewal of that license. The information is used by Commission staff to satisfy requirements for licensees to demonstrate substantial service at the time of license renewal. Without this information, the Commission not be able to carry out its statutory responsibilities. Also the information is used by the Commission to determine whether the licensee is providing service which rises to the level of “substantial” requires the following information:

(1) A description of the 38.6-40.0 GHz band licensee's current service in terms of geographic coverage;

(2) A description of the licensee's current service in terms of population served, as well as any additional service provided during the license term; and

(3) A description of the licensee's investment in its system(s) (type of facilities constructed and their operational status is required.

Any licensees adjudged not to be providing substantial service will not have their license renewed.

Federal Communications Commission.
Marlene H. Dortch,
Secretary.

[FR Doc. E9-7519 Filed 4-2-09; 8:45 am]

BILLING CODE 6712-01-P